DEPARTMENT OF COMMERCE

National Oceanic and Atmospheric Administration

50 CFR Part 660

[Docket No. 100218107-0199-01]

RIN 0648-XA293

Fisheries Off West Coast States; Modifications of the West Coast Commercial and Recreational Salmon Fisheries; Inseason Actions #1, #2, #3, and #4

AGENCY: National Marine Fisheries Service (NMFS), National Oceanic and Atmospheric Administration (NOAA), Commerce.

ACTION: Modification of fishing seasons, gear restrictions, and landing and possession limits; request for comments.

SUMMARY: NOAA Fisheries announces four inseason actions in the ocean salmon fisheries. Inseason action #1 modified the commercial fishery in the area from Cape Falcon, Oregon to Humbug Mountain, Oregon. Inseason action #2 modified the commercial fishery in the area from Humbug Mountain, Oregon to the Oregon/California Border. Inseason action #3 modified the recreational fishery in the area from Horse Mountain, California to Point Arena, California. Inseason action #4 modified the recreational fishery in the area from Point Arena, California to the U.S./Mexico Border.

DATES: Inseason actions #1 and #2 were effective on March 15, 2011. Inseason actions #3 and #4 are effective April 2, 2011. Inseason actions #1, #2, #3, and #4 remain in effect until the opening of the 2011 salmon season announced in the 2011 annual management measures or until modified through additional inseason action, which will publish in the Federal Register. Comments will be accepted through April 12, 2011.

ADDRESSES: You may submit comments, identified by RIN 0648-XA293, by any one of the following methods:

• Electronic Submissions: Submit all electronic public comments via the Federal eRulemaking Portal http://www.regulations.gov.

• Fax: 206-526-6736, Attn: Peggy Busby.

• Mail: 7600 Sand Point Way, NE., Building 1, Seattle, WA 98115.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Peggy Busby, by phone at 206-526-4323.

SUPPLEMENTARY INFORMATION:

In the 2010 annual management measures for ocean salmon fisheries (75 FR 24482, May 5, 2010), NMFS announced the commercial and recreational fisheries in the area from the U.S./Canada Border to the U.S./Mexico Border, beginning May 1, 2010, and 2011 salmon seasons opening earlier than May 1, 2011.

The Regional Administrator (RA) consulted with representatives of the Council, Oregon Department of Fish and Wildlife and California Department of Fish and Game on March 9, 2011. The information considered during this consultation related to Chinook and coho salmon 2010 spawning escapements, 2011 abundance forecasts, and annual management objectives.

Inseason action #1 delayed the scheduled opening for the commercial salmon fishery from Cape Falcon, Oregon to Humbug Mountain, Oregon, previously scheduled for March 15, 2011, to April 15, 2011. Seven days per week. All salmon except coho. All vessels fishing in the area must land their fish in the State of Oregon. See gear restrictions and definitions (C.2, C.3 in 75 FR 24482) and Oregon State regulations for a description of special regulations at the mouth of Tillamook Bay. This action was taken to comply with conservation constraints. On March 9, 2011, the states recommended this action and the RA concurred; inseason action #1 took effect on March 15, 2011. Modification of quota and/or fishing seasons is authorized by 50 CFR 660.409(b)(1)(i).

Inseason action #2 cancelled the commercial fishery from Humbug Mountain, Oregon to the Oregon/California Border previously scheduled to open on March 15, 2011. This action was taken to comply with conservation constraints. On March 9, 2011, the states recommended this action and the RA concurred; inseason action #2 took effect on March 15, 2011. Modification of quota and/or fishing seasons is authorized by 50 CFR 660.409(b)(1)(i).

Inseason action #3 established a recreational fishery from Horse Mountain, California to Point Arena (Fort Bragg), opening April 2, 2011. Seven days per week. All salmon except coho, two fish per day (C.1 in 75 FR 24482). Chinook minimum size limit of 24 inches total length. The same gear restrictions as in 2010 (C.2, C.3 in 75 FR 24482). This action was taken to provide access to fish available for harvest within conservation constraints. On March 9, 2011, the states recommended this action and the RA concurred; inseason action #3 will take effect April 2, 2011. Modification of quota and/or fishing seasons is authorized by 50 CFR 660.409(b)(1)(i).

Inseason action #4 established a recreational fishery from Point Arena, California to the California/Mexico Border, opening April 2, 2011. Seven days per week. All salmon except coho, two fish per day (C.1 in 75 FR 24482). Chinook minimum size limit of 24 inches total length. The same gear restrictions as in 2010 (C.2, C.3 in 75 FR 24482). This action was taken to provide access to fish available for harvest within conservation constraints. On March 9, 2011, the states recommended this action and the RA concurred; inseason action #4 will take effect April 2, 2011. Modification of quota and/or fishing seasons is authorized by 50 CFR 660.409(b)(1)(i).

All other restrictions and regulations remain in effect as announced for the 2010 Ocean Salmon Fisheries and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (75 FR 24482, May 5, 2010), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to ensure that fisheries are managed based on the best available scientific information, thus allowing fishers access to the available fish at the time the fish were available while ensuring that quotas are not exceeded. The AA also finds good cause to waive the 30-day delay in effectiveness required under U.S.C. 553(d)(3), as a delay in effectiveness of these actions would allow fishing at levels inconsistent with the goals of the Salmon Fishery Management Plan and the current management measures.

These actions are authorized by 50 CFR 660.409 and 660.411 and are exempt from review under Executive Order 12866.

Authority: 16 U.S.C. 1801 et seq.

Dated: March 23, 2011.
Margo Schulze-Haugen,
Acting Director, Office of Sustainable Fisheries, National Marine Fisheries Service.

[FR Doc. 2011-7242 Filed 3-25-11; 8:45 am]

BILLING CODE 3510-22-P